GENERAL SERVICES ADMINISTRATION

[Notice-MRB-2024-08; Docket No. 2024-0002; Sequence No. 54]

Notice of Acquisition Policy Federal Advisory Committee Upcoming Web-Based Public Meeting

AGENCY: Office of Government-wide Policy (OGP), General Services Administration (GSA).

ACTION: Notice.

SUMMARY: GSA is providing notice of a meeting of the GSA Acquisition Policy Federal Advisory Committee (hereinafter “the Committee” or “the GAP FAC”) in accordance with the requirements of the Federal Advisory Committee Act (FACA), as amended. This meeting will be open to the public, accessible via webcast. Information on attending and providing written and oral public comment is under the SUPPLEMENTARY INFORMATION section.

DATES: The GAP FAC will hold an open public meeting on Thursday, December 5, 2024, from 11 a.m. to 1 p.m. eastern standard time (EST).

ADDRESSES: The meeting will be accessible via webcast. Registrants are required to register to receive the webcast information before the meeting.

FOR FURTHER INFORMATION CONTACT: Stephanie Hardison, Designated Federal Officer, OGP, 202-258-6823, or David Cochennic, Deputy Designated Federal Officer,OGP, 904-403-0829, or email: gapfac@gsa.gov. Additional information about the Committee, including meeting materials and agendas, are available on-line at https://gsa.gov/policy-regulations/policy/acquisition-policy/gsa-acquisition-policy-federal-advisory-committee.

SUPPLEMENTARY INFORMATION: The GAP FAC serves as an advisory body to GSA's Administrator, providing guidance on how GSA can utilize its acquisition tools and authorities to target the highest priority challenges in federal procurement. The GAP FAC will focus on advising GSA on regulatory, policy and procedural reforms that will facilitate policy development and strategies for integrating emerging technological considerations in the federal acquisition process. Through these efforts, the GAP FAC aims to facilitate impactful advancements that drive innovation in federal procurement.

Purpose of the Meeting

The purpose of this meeting is to provide introductions, discuss the Committee charge, and begin the Committee's work.

Meeting Agenda

• Welcome and Opening remarks

• GAP FAC Purpose & Goals

• Expert Speaker or Presentation

• Review of Priorities and Discussion

• Public Comments

• Summary and Next Steps

• Closing Remarks and Adjournment

Meeting Registration

The meeting is open to the public and the meeting will be accessible by webcast. Registration information is located on the GAP FAC website: https://www.gsa.gov/policy-regulations/policy/acquisition-policy/gsa-acquisition-policy-federal-advisory-committee. Public attendees who want to attend virtually will need to register no later than 5 p.m. EST, on December 4, 2024 to obtain the meeting webcast information. All registrants will be asked to provide their name, affiliation, and email address. After registration, individuals will receive webcast access information details via email.

Public Comment

Written and oral comments are being accepted throughout the life of the Committee. Written comments can be sent to gapfac@gsa.gov. For written comments specific to this public meeting, submit the comment via email by December 4, 2024 with the meeting date in the subject line. Written comments submitted after December 4, 2024 will be provided to the Committee members, but please be advised that Committee members may not have adequate time to consider the comments prior to the meeting. Public participants will be given the opportunity to provide oral comments during the meeting. Oral comments will be captured on the meeting recording and posted to the GAP FAC website once the meeting materials are approved.

Special Accommodations

For information on services for individuals with disabilities, or to request accommodation of a disability, please contact the Designated Federal Officer at least 10 business days prior to the meeting to give GSA as much time as possible to process the request. Closed captioning and live ASL interpreter services will be available.

Jeffrey A. Koses,
Senior Procurement Executive and Acting Chief Acquisition Officer, Office of Government-wide Policy, General Services Administration.

[FR Doc. 2024-27069 Filed 11-19-24; 8:45 am]

BILLING CODE 6820-61-P